DEPARTMENT OF TRANSPORTATION

Coast Guard

46 CFR Part 1

[USCG 2001-8894]

RIN 2115-AG11

Right To Appeal; Director, Great Lakes Pilotage

AGENCY: Coast Guard, DOT.

ACTION: Direct final rule; confirmation of effective date.

SUMMARY: On June 13, 2001, we published a direct final rule (66 FR 31842). The direct final rule notified the public of the Coast Guard's intent to amend its appellate procedures to provide explicit authority for appeal of decisions or actions taken by the Director, Great Lakes Pilotage. We have not received an adverse comment, or notice of intent to submit an adverse comment, on this rule. Therefore, this rule will go into effect as scheduled.

DATES: The effective date of the direct final rule is confirmed as September 11, 2001.

FOR FURTHER INFORMATION CONTACT: If you have questions on this rule, call Mr. John Bennett, Coast Guard, telephone 202-267-2856. If you have questions on viewing the docket, call Ms. Dorothy Beard, Chief, Dockets, Department of Transportation, telephone 202-366-5149.

Dated: August 20, 2001.
Paul J. Pluta,
Rear Admiral, U.S. Coast Guard, Assistant Commandant for Marine Safety and Environmental Protection.

[FR Doc. 01-21563 Filed 8-24-01; 8:45 am]

BILLING CODE 4910-15-U